DEPARTMENT OF COMMERCE

Foreign-Trade Zones Board

[Docket 30-2001]

Foreign-Trade Zone 57—Charlotte, North Carolina; Application for Expansion

An application has been submitted to the Foreign-Trade Zones Board (the Board) by the North Carolina Department of Commerce, grantee of FTZ 57, requesting authority to expand its general-purpose zone site to include additional sites in Alexander, Burke, Caldwell and Catawba Counties, North Carolina. The application was submitted pursuant to the provisions of the Foreign-Trade Zones Act, as amended (19 U.S.C. 81a-81u), and the regulations of the Board (15 CFR Part 400). It was formally filed on July 3, 2001.

FTZ 57 was approved on April 28, 1980 (Board Order 156, 45 FR 30466, 5/8/80) and expanded on September 23, 1982 (Board Order 199, 47 FR 43103, 9/30/82). The zone project currently includes four general-purpose zone sites: Site 1 (100,000 sq. ft.)—at 11425 Granite Street, Mecklenburg County; Site 1A (23 acres)—located at 1411 and 1701 Continental Boulevard, Mecklenburg County; Site 2 (137,368 sq. ft.)—located at 14620 Carowinds Boulevard, Mecklenburg County; and, Site 3 (26 acres)—located at International Airport Center, 3401 International Airport Drive, Charlotte.

The applicant is now requesting authority for a major change to its zone plan that would extend zone services on a regional basis. The proposal involves expanding its zone project to include eight sites (3,144 acres) in the Counties of Burke, Caldwell, Alexander and Catawba: Proposed Site 4 (1,600 acres, 14 parcels)—proposed industrial park (Great Meadows), located at Interstate 40 in Burke County; Proposed Site 5 (78 acres, 2 parcels): Parcel 1 (40 acres)—Lenoir Business Park and Parcel 2 (38 acres)—J&M Industrial Park, located on NC Highway 18 in Lenoir (Caldwell County); Proposed Site 6 (160 acres)—Alexander County Rail Park, located on NC Highway 90, one mile east of Taylorsville (Alexander County); Proposed Site 7 (655 acres)—Hickory Regional Airport/Lakepark, located on Clement Boulevard in the City of Hickory (Catawba/Burke Counties); Proposed Site 8 (1 acre)—Conwareco Logistics, Inc., warehouse facility, 1070 Main Avenue NW in Hickory (Catawba County); Proposed Site 9 (9 acres, 3 parcels): Parcel 1 (4 acres)—Diamante Group LLC warehouse/industrial facility at 406 20th Street SE; Parcel 2 (2 acres)—LT2 at 504 20th Street SE; and, Parcel 3 (3 acres)—Hickory Throwing Company at 520 20th Street SE in Hickory (Catawba County); Proposed Site 10 (330 acres)—within the 700-acre Conover West Business Park in Hickory (Catawba County); and, Proposed Site 11 (311 acres, 11 parcels)—City of Newton industrial park, Newton (Catawba County). No specific manufacturing requests are being made at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is September 10, 2001. Rebuttal comments in response to material submitted during the foregoing period may be submitted during the subsequent 15-day period (to September 24, 2001).

A copy of the application and accompanying exhibits will be available for public inspection at each of the following locations:

U.S. Department of Commerce, Export Assistance Center, 521 East Morehead Street, Suite 435, Charlotte, NC 28202

Office of the Executive Secretary, Foreign-Trade Zones Board, U.S. Department of Commerce 14th & Pennsylvania Avenue, NW, Washington, DC 20230

Dated: July 3, 2001.
Dennis Puccinelli,
Executive Secretary.

[FR Doc. 01-17373 Filed 7-10-01; 8:45 am]

BILLING CODE 3510-DS-P